DEPARTMENT OF ENERGY

Federal Energy Regulatory Commission

Combined Notice of Filings

Take notice that the Commission has received the following Natural Gas Pipeline Rate and Refund Report filings:

Filings Instituting Proceedings

Docket Numbers: RP19-419-000.

Applicants: Tuscarora Gas Transmission Company.

Description: Report Filing: Tuscarora Refund Report RP19-419.

Filed Date: 6/14/19.

Accession Number: 20190614-5023.

Comments Due: 5 p.m. ET 7/5/19.

Docket Numbers: RP19-1332-000.

Applicants: Midcontinent Express Pipeline LLC.

Description: § 4(d) Rate Filing: Negotiated Rate Contracts Expiring to be effective 8/1/2019.

Filed Date: 6/26/19.

Accession Number: 20190626-5101.

Comments Due: 5 p.m. ET 7/8/19.

Docket Numbers: RP19-1333-000.

Applicants: Algonquin Gas Transmission, LLC.

Description: § 4(d) Rate Filing: Negotiated Rate—Emera contracts eff 7-1-19 to be effective 7/1/2019.

Filed Date: 6/26/19.

Accession Number: 20190626-5105.

Comments Due: 5 p.m. ET 7/8/19.

Docket Numbers: RP19-1334-000.

Applicants: Texas Eastern Transmission, LP.

Description: § 4(d) Rate Filing: Negotiated Rate—Chevron to Eco Energy 8958085 eff 7-1-19 to be effective 7/1/2019.

Filed Date: 6/27/19.

Accession Number: 20190627-5015.

Comments Due: 5 p.m. ET 7/9/19.

Docket Numbers: RP19-1335-000.

Applicants: Algonquin Gas Transmission, LLC.

Description: § 4(d) Rate Filing: Negotiated Rate—Boston to SFE 799462 eff 7-1-19 to be effective 7/1/2019.

Filed Date: 6/27/19.

Accession Number: 20190627-5016.

Comments Due: 5 p.m. ET 7/9/19.

Docket Numbers: RP19-1336-000.

Applicants: Gulfstream Natural Gas System, L.L.C.

Description: § 4(d) Rate Filing: Negotiated Rate—Seminole 9214212 eff 7-1-19 to be effective 7/1/2019.

Filed Date: 6/27/19.

Accession Number: 20190627-5023.

Comments Due: 5 p.m. ET 7/9/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2019.
Nathaniel J. Davis, Sr.,
Deputy Secretary.

[FR Doc. 2019-14204 Filed 7-2-19; 8:45 am]

BILLING CODE 6717-01-P